DEPARTMENT OF ENERGY

Federal Energy Regulatory Commission

[Docket No. EG99-69-000, et al.]

Elwood Energy LLC, et al.; Electric Rate and Corporate Regulation Filings

August 6, 2001.

Take notice that the following filings have been made with the Commission:

1. Elwood Energy LLC

[Docket No. EG99-69-000]

Take notice that on August 1, 2001, Elwood Energy LLC (Elwood) filed with the Federal Energy Regulatory Commission an application for redetermination of exempt wholesale generator status pursuant to Part 365 of the Commission's regulations.

Elwood, Elwood Energy II, LLC (Elwood II) and Elwood Energy III, LLC (Elwood III) are all exempt wholesale generators owned 50%, directly or indirectly, by subsidiaries (Dominion Entities) of Dominion Resources, Inc. (Dominion), a public utility holding company registered under the 1935 Act, and 50% by subsidiaries (PEC Entities) of Peoples Energy Corporation (PEC), an exempt public utility holding company under the 1935 Act. The mergers of Elwood II, LLC and Elwood III, LLC, with and into Elwood as the surviving entity, and certain related mergers among the Dominion Entities and among the PEC Entities (collectively, the Mergers) were authorized by the Commission in its July 20, 2001 Order Authorizing Disposition of Jurisdictional Facilities and Corporate Reorganization in Docket No. ER01-121-000. Upon completion of the Mergers, Elwood will be owned 50% by Dominion Elwood, Inc., a Delaware corporation, a wholly-owned subsidiary of Dominion Energy, Inc. which, in turn, is a wholly-owned subsidiary of Dominion, and 50% by Peoples Elwood, LLC, a wholly-owned subsidiary of PERC Power, Inc., which, in turn, is a wholly-owned subsidiary of Peoples Energy Resources Corp., which, in turn, is a wholly-owned subsidiary of PEC.

Upon completion of the Mergers, Elwood will own, in addition to the generation facilities it owned before the Mergers, those generation facilities formerly owned by Elwood II and Elwood III, all of which previously have been determined by the Commission to eligible facilities in connection with its orders determining Elwood, Elwood II and Elwood III to be exempt wholesale generators. Elwood also will own interconnection facilities, including generator leads, step up transformers and associated circuit breakers, used solely for interconnection with the transmission system of Commonwealth Edison Company.

Comment date: August 27, 2001, in accordance with Standard Paragraph E at the end of this notice. The Commission will limit its consideration of comments to those that concern the adequacy or accuracy of the application.

2. Dominion North Star Generation, Inc.

[Docket No. EG01-272-000]

Take notice that on August 1, 2001, Dominion North Star Generation, Inc. (Dominion North Star) filed with the Federal Energy Regulatory Commission an application for determination of exempt wholesale generator status pursuant to Part 365 of the Commission's regulations.

Dominion North Star, a Delaware corporation, is a wholly owned subsidiary of Dominion Energy, Inc., which in turn is a wholly owned subsidiary of Dominion Resources, Inc.

Dominion North Star will, through its affiliate North Star Generation, LLC, be exclusively engaged in the business of owning, operating and selling electricity exclusively at wholesale from an electric generating facility located in North Star Township, Gratiot County, Michigan. The Facility will consist of three gas-fired GE 7FA turbine generator sets and related ancillary equipment and structures and will have a combined nominal rating of approximately 510 MW. The Facility will also include as yet undetermined transmission interconnection facilities. The facility will be interconnected with the transmission system of the Michigan Electric Transmission Company.

Comment date: August 27, 2001, in accordance with Standard Paragraph E at the end of this notice. The Commission will limit its consideration of comments to those that concern the adequacy or accuracy of the application.

3. Dominion North Star Generation, Inc.

[Docket No. EG01-273-000]

Take notice that on August 1, 2001, Dominion North Star Generation, Inc. (Dominion North Star) filed with the Federal Energy Regulatory Commission an application for determination of exempt wholesale generator status pursuant to Part 365 of the Commission's regulations.

Dominion North Star, a Delaware corporation, is a wholly owned subsidiary of Dominion Energy, Inc., which in turn is a wholly owned subsidiary of Dominion Resources, Inc.

Dominion North Star will, through its affiliate North Star Generation, LLC, be exclusively engaged in the business of owning, operating and selling electricity exclusively at wholesale from an electric generating facility located in North Star Township, Gratiot County, Michigan. The Facility will consist of three gas-fired GE 7FA turbine generator sets and related ancillary equipment and structures and will have a combined nominal rating of approximately 510 MW. The Facility will also include as yet undetermined transmission interconnection facilities. The facility will be interconnected with the transmission system of the Michigan Electric Transmission Company.

Comment date: August 27, 2001, in accordance with Standard Paragraph E at the end of this notice. The Commission will limit its consideration of comments to those that concern the adequacy or accuracy of the application.

4. Dominion Upshur, LLC

[Docket No. EG01-274-000]

Take notice that on August 1, 2001, Dominion Upshur, LLC (Dominion Upshur) filed with the Federal Energy Regulatory Commission an application for determination of exempt wholesale generator status pursuant to part 365 of the Commission's regulations.

Dominion Upshur, a Delaware limited liability company, is a wholly owned subsidiary of Dominion Upshur, Inc, a Delaware corporation. Dominion Upshur, Inc., is a wholly-owned subsidiary of Dominion Energy, Inc. which in turn is a wholly-owned subsidiary of Dominion Resources, Inc.

Dominion Upshur will be directly and exclusively engaged in owning, operating and selling electricity at wholesale from a generating facility with a net capacity of approximately 450 MW located in Upshur County, West Virginia. The facility will consist of two coal and waste coal circulating fluidized bed boilers, one steam generator, an approximately four mile 138 kV transmission line and related ancillary equipment and structures. The facility will be interconnected with the transmission system of Allegheny Power.

Comment date: August 27, 2001, in accordance with Standard Paragraph E at the end of this notice. The Commission will limit its consideration of comments to those that concern the adequacy or accuracy of the application.

5. Dominion Upshur, Inc.

[Docket No. EG01-275-000]

Take notice that on August 1, 2001, Dominion Upshur, Inc. filed with the Federal Energy Regulatory Commission an application for determination of exempt wholesale generator status pursuant to Part 365 of the Commission's regulations.

Dominion Upshur, Inc., a Delaware corporation, is a wholly-owned subsidiary of Dominion Energy, Inc. which in turn is a wholly-owned subsidiary of Dominion Resources, Inc.

Dominion Upshur, Inc. will, through its affiliate Dominion Upshur, LLC, be exclusively engaged in the business of owning, operating and selling electricity exclusively at wholesale from an electric generating facility with a net capacity of approximately 450 MW located in Upshur County, West Virginia. The facility will consist of two coal and waste coal circulating fluidized bed boilers, one steam generator, an approximately four mile 138 kV transmission line and related ancillary equipment and structures. The facility will be interconnected with the transmission system of Allegheny Power.

Comment date: August 27, 2001, in accordance with Standard Paragraph E at the end of this notice. The Commission will limit its consideration of comments to those that concern the adequacy or accuracy of the application.

6. Consolidated Edison Company of New York

[Docket Nos. EL01-45-002 and ER01-1385-003]

Take notice that on July 30, 2001, the New York Independent System Operator, Inc. (NYISO) filed a timetable for implementation of the revised Localized Market Power Mitigation Measures proposed by Consolidated Edison Company of New York, Inc., and approved by the Commission's order issued on July 20, 2001 in the above-captioned dockets.

The NYISO has served a copy of this filing upon parties on the official service lists maintained by the Commission for the above-captioned dockets.

Comment date: August 20, 2001, in accordance with Standard Paragraph E at the end of this notice.

7. Bangor Hydro-Electric Company

[Docket No. EL01-99-000]

Take notice that on July 3, 2001, Bangor Hydro-Electric Company (Bangor Hydro) submitted for filing a Petition for Declaratory Order, in order to separate Bangor Hydro's overall transmission and distribution requirement into its components. The Maine Public Utility Commission has approved this transmission and distribution split pursuant to Order No. 888's seven factors test.

Copies of this filing were served on all affected customers under Bangor Hydro's OATT and upon the Maine Public Utilities Commission and the Maine Public Advocate.

Comment date: September 5, 2001, in accordance with Standard Paragraph E at the end of this notice.

8. Electricity Capital, LLC, El Cap I, LLC, El Cap II, LLC

[Docket No. ER01-1612-000, Docket No. ER01-1613-000, Docket No. ER01-1614-000]

Take notice that on August 1, 2001 Electricity Capital, LLC, El Cap I, LLC and El Cap II, LLC (Applicants) withdrew their respective Petitions for Acceptance of Initial Rate Schedule, Waivers and Blanket Authority.

The Applicants experienced a change in conditions and circumstances requiring them to withdraw their Petitions without prejudice and resubmit their Petitions in the future.

Comment date: August 22, 2001, in accordance with Standard Paragraph E at the end of this notice.

9. San Diego Gas & Electric Company, Complainant, v. Sellers of Energy and Ancillary Services Into Markets Operated by the California Independent System Operator Corporation and the California Power Exchange, Respondents; Investigation of Practices of the California Independent System Operator and the California Power Exchange; California Independent System; Operator Corporation; Investigation of Wholesale Rates of Public Utility Sellers of Energy and Ancillary Services In the Western Systems Coordinating Council

[Docket No. EL00-95-040; Docket No. EL00-98-038; Docket Nos. RT01-85-000 and RT01-85-001; Docket No. EL01-68-003]

Take notice that on July 30, 2001, the California Independent System Operator Corporation (ISO) tendered for filing changes to Section 2.5.27.7 of the ISO Tariff as proposed in the ISO's July 10, 2001, filing to comply with the Commission's June 19, 2001, order in the above-captioned proceeding, San Diego Gas & Electric Co.v. Sellers of Energy and Ancillary Services Into Markets Operated by the California Independent System Operator and the California Power Exchange, et al., 95 FERC ¶ 61,418 (2001) and the Commission's May 25, 2001, order in the above-captioned proceeding, San Diego Gas & Electric Co. v. Sellers of Energy and Ancillary Services Into Markets Operated by the California Independent System Operator and the California Power Exchange, et al., 95 FERC ¶ 61,275 (2001). The ISO's July 30, 2001, filing replaces the term “Marginal Proxy Clearing Price” as used in Section 2.5.27.7 with the term “Hourly Ex Post Price.” The ISO's July 30, 2001, filing also corrects a typographical error on one Tariff sheet filed on July 10. The ISO states that this filing has been served upon all parties in this proceeding.

Comment date: August 20, 2001, in accordance with Standard Paragraph E at the end of this notice.

10. Public Service Company of New Mexico

[Docket No. ER01-2747-000]

Take notice that on August 1, 2001, Public Service Company of New Mexico (PNM) submitted for filing two executed service agreements with Exelon Generation Company, LLC (Exelon), under the terms of PNM's Open Access Transmission Tariff. One agreement is for short-term firm point-to-point transmission service and one is for non-firm point-to-point transmission service. PNM's filing is available for public inspection at its offices in Albuquerque, New Mexico.

The effective date for the agreements is July 26, 2001, the date of execution.

Copies of the filing have been sent to Exelon and to the New Mexico Public Regulation Commission.

Comment date: August 22, 2001, in accordance with Standard Paragraph E at the end of this notice.

11. Southwest Power Pool, Inc.

[Docket No. ER01-2748-000]

Take notice that on August 1, 2001, Southwest Power Pool, Inc. (SPP) submitted for filing three executed service agreements for Firm Point-to-Point Transmission Service, Non-Firm Point-to-Point Transmission Service, and Loss Compensation Service with Omaha Public Power District (Transmission Customer).

SPP seeks an effective date of July 27, 2001 for each of these service agreements.

A copy of this filing was served on the Transmission Customer.

Comment date: August 22, 2001, in accordance with Standard Paragraph E at the end of this notice.

12. Cinergy Services, Inc.

[Docket No. ER01-2749-000]

Take notice that on August 1, 2001, Cinergy Services, Inc. (Cinergy) tendered for filing a Market-Based Service Agreement under Cinergy's Market-Based Power Sales Standard Tariff-MB (the Tariff) entered into between Cinergy and FPL Energy Power Marketing, Inc. (FPLEPM).

Cinergy and FPLEPM are requesting an effective date of July 2, 2001.

Comment date: August 22, 2001, in accordance with Standard Paragraph E at the end of this notice.

13. Cinergy Services, Inc.

[Docket No. ER01-2750-000]

Take notice that on August 1, 2001, Cinergy Services, Inc. (Cinergy) tendered for filing a Market-Based Service Agreement under Cinergy's Market-Based Power Sales Standard Tariff-MB (the Tariff) entered into between Cinergy and Alliance Energy Services Partnership (Alliance).

Cinergy and Alliance are requesting an effective date of July 2, 2001.

Comment date: August 22, 2001, in accordance with Standard Paragraph E at the end of this notice.

14. Northern Maine Independent System Operator

[Docket No. ER01-2753-000]

Take notice that on August 1, 2001, the Northern Maine Independent System Administrator (NMISA) tendered for filing with the Federal Energy Regulatory Commission (FERC) a notice of cancellation of Service Agreement No. 6 to FERC Electric Tariff, Original Volume No. 1.

NMISA requests an effective date of July 6, 2001.

Comment date: August 22, 2001, in accordance with Standard Paragraph E at the end of this notice.

15. Nevada Power Company

[Docket No. ER01-2754-000]

Take notice that on August 1, 2001, Nevada Power Company (Nevada Power) tendered for filing Service Agreement No. 100 to the Sierra Pacific Resources Operating Companies FERC Electric Tariff, First Revised Volume No. 1, which is Nevada Power's Open Access Transmission Tariff. This Service Agreement is an unexecuted Transmission Service Agreement (TSA) between Nevada Power and Pinnacle West Energy Company.

Nevada Power requests that this TSA be made effective as of July 1, 2001.

Comment date: August 22, 2001, in accordance with Standard Paragraph E at the end of this notice.

16. Nevada Power Company

[Docket No. ER01-2755-000]

Take notice that on August 1, 2001, Nevada Power Company (Nevada Power) tendered for filing Service Agreement No. 101 to the Sierra Pacific Resources Operating Companies FERC Electric Tariff, First Revised Volume No. 1, which is Nevada Power's Open Access Transmission Tariff. This Service Agreement is an unexecuted Transmission Service Agreement (TSA) between Nevada Power and Reliant Energy Services, (Reliant—Arrow Canyon).

Nevada Power requests that this TSA be made effective as of July 1, 2001.

Comment date: August 22, 2001, in accordance with Standard Paragraph E at the end of this notice.

Standard Paragraph

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-20179 Filed 8-10-01; 8:45 am]

BILLING CODE 6717-01-P